DEPARTMENT OF DEFENSE

Department of the Army; Corps of Engineers

Availability of the Draft Feasibility Report and Supplemental Environmental Impact Statement and Draft State Environmental Impact Report for the Boston Harbor Deep Draft Navigation Improvement Project

AGENCY: Department of the Army, U.S. Army Corps of Engineers, DOD.

ACTION: Notice of availability.

SUMMARY: The U.S. Army Corps of Engineers, New England District in partnership with the Massachusetts Port Authority (Massport) has prepared a joint Draft Supplemental Environmental Impact Statement and State Draft Environmental Impact Report (DSEIS/DEIR) examining improvements to deep-draft navigation channels in Boston Harbor, Boston, MA. Four separate improvements were developed. The first examined deepening the outer and lower harbor's existing 40-foot channel system to provide deeper access to Massport's Conley Terminal in South Boston for containership traffic. All depths are referenced to minus mean lower low water (MLLW). Navigation channel depths of between 45 to 50 feet were examined, with a depth of 48 feet recommended, with an additional two feet in the entrance channel. Under this plan the following project features would be improved: the 40-foot lane of the Broad Sound North Entrance Channel would be deepened to 50 feet and widened through the bend at Finn's Ledge. The 40-foot lane of the Main Ship Channel from the Broad Sound North Entrance Channel upstream through President Roads to the Reserved Channel would be deepened to 48 feet and its 600-foot-wide reaches widened to between 800 and 900 feet, with additional width in the bends. The 40-foot lower reach of Reserved Channel and its turning area would be deepened to 48 feet, with the turning area also widened to 1600 feet. The 40-foot President Roads Anchorage would be deepened to 48 feet. The second improvement would deepen the existing 40-foot lane of the Main Ship Channel from the Reserved Channel Turning Area upstream to just below the Third Harbor Tunnel to a depth of 45 feet, to improve access to the Massport Marine Terminal in South Boston. The third improvement would deepen a portion of the 35-foot Mystic River Channel lane to 40 feet to improve access to Massport's Medford Street Terminal. The fourth and final improvement would deepen the 38-foot Chelsea River Channel to 40 feet, with minor widening in the bridge approaches and the bend between the bridges. In conjunction with work in the Federal channels, the Massachusetts Port Authority would deepen vessel berths at the Conley Terminal and Marine Terminal. Terminals on the Chelsea River would also deepen their berths to match the new channel depth. A total of about 12.1 million cubic yards (cy) of parent material, and 1.2 million cy of rock, would be removed by dredging and placed at the Massachusetts Bay Disposal Site (MBDS). Beneficial use opportunities for the dredged material have been identified and would be considered further during final design of the project. Those beneficial use opportunities include: creation of rock reefs in Massachusetts Bay and Broad Sound, and using the non-rock material as cover at the former Industrial Waste Site, which overlaps the MBDS. This joint Federal and State document builds on the lessons learned from the final EIR/S prepared in June of 1995 for the previous navigation improvement project in Boston Harbor.

DATES: Submit comments on or before June 2, 2008.

ADDRESSES: Comments should be submitted to Colonel Curtis L. Thalken, District Engineer, U.S. Army Corps of Engineers, New England District, 696 Virginia Road, Concord, MA 01742.

FOR FURTHER INFORMATION CONTACT: Ms. Catherine Rogers, (978) 318-8231.

SUPPLEMENTARY INFORMATION: The U.S. Army Corps of Engineers is authorized to conduct this Feasibility Study by a Senate Subcommittee on Public Works Resolution dated September 11, 1969.

The DSEIS/DEIR is available on-line on the New England District's Web page at http://www.nae.usace.army.mil/projects/ma/BHNIP/BostonHarbor_draft_FeasibilitySEIS.zip and at the following local libraries: Boston Libraries—25 Parameter Street, 20 City Hall Avenue, 18 Barnes Avenue, 666 Boylston Street, Boston City Hall, 179 Main Street, 646 West Broadway, 276 Meridan Street; Chelsea Library—569 Broadway; Revere Library—179 Beach Street; and the Winthrop Library—2 Metcalf Square. If you wish to receive a copy of the Executive Summary or an electronic copy of the DSEIS/DEIR, please contact Ms. Catherine Rogers, Ecologist, U.S. Army Corps of Engineers, New England District, Evaluation Branch, 696 Virginia Road, Concord, MA 01742.

A public meeting to solicit comments has been scheduled for 1 p.m. on Tuesday, May 20, 2008, on the second floor of the Black Falcon Cruise Terminal, One Black Falcon Avenue, Boston, MA.

Dated: April 8, 2008.
Curtis L. Thalken,
Colonel, Corps of Engineers, New England District.

[FR Doc. E8-8202 Filed 4-17-08; 8:45 am]

BILLING CODE 3710-24-P